DEPARTMENT OF THE INTERIOR

Bureau of Land Management

[LLWY920000. L51040000.FI0000. 20XL5017AR]

Notice of Proposed Reinstatement of Terminated Oil and Gas Leases WYW147077 and WYW147081, Wyoming

AGENCY: Bureau of Land Management, Interior.

ACTION: Notice.

SUMMARY: As provided for under the Mineral Leasing Act of 1920, as amended, the Bureau of Land Management (BLM) received petitions for reinstatement of competitive oil and gas leases WYW147077 and WYW147081 from Five Star Energy LLC and Moriah Powder River LLC for land in Johnson County, Wyoming. The lessees filed the petitions on time, along with all rentals due since the leases terminated under the law. No leases affecting this land were issued before the petitions were filed.

FOR FURTHER INFORMATION CONTACT: Chris Hite, Branch Chief for Fluid Minerals Adjudication, Bureau of Land Management, Wyoming State Office, 5353 Yellowstone Road, Cheyenne, Wyoming 82009; phone 307-775-6176; email chite@blm.gov.

Persons who use a telecommunications device for the deaf may call the Federal Relay Service (FRS) at 1-800-877-8339 to contact Mr. Hite during normal business hours. The FRS is available 24 hours a day, 7 days a week, to leave a message or question with the above individual. A reply will be sent during normal business hours.

SUPPLEMENTARY INFORMATION: Termination of a lease is automatic and statutorily imposed by Congress. Alternatively, reinstatement terms are also set by Congress. Oil and gas leases WYW147077 and WYW147081 terminated effective November 1, 2018, for failure to pay rental timely. The lessees petitioned for reinstatement of the leases and met all filing requirements for a Class II reinstatement. The lessees agreed to the amended lease terms for rentals of $10 per acre, or fraction thereof, per year and royalty rates of 16 ⅔ percent, and additional lease stipulations. The lessees have paid the required $500 administrative fee and the $151 cost of publishing this notice. The lessees meet the requirements for reinstatement of the leases per Sec. 31(d) and (e) of the Mineral Leasing Act of 1920 (30 U.S.C. 188). Reinstatement of these leases conforms to the terms and conditions of all applicable land use plans and other applicable National Environmental Policy Act documents. The BLM proposes to reinstate the leases with an effective date of November 1, 2018, under the amended terms and conditions of the leases and the increased rental and royalty rates cited above. The leases will be reinstated 30 days after publication of the notice of proposed reinstatement in the Federal Register.

Authority: 30 U.S.C. 188 (e)(4) and 43 CFR 3108.2-3(b)(2)(v).

Chris Hite,
Chief, Branch of Fluid Minerals Adjudication.

[FR Doc. 2019-26897 Filed 12-12-19; 8:45 am]

BILLING CODE 4310-22-P